DEPARTMENT OF TRANSPORTATION

Federal Aviation Administration

14 CFR Part 39

[Docket No. 2000-NM-409-AD; Amendment 39-13853; AD 2004-22-25]

RIN 2120-AA64

Airworthiness Directives; Boeing Model 767-200, -300, and -300F Series Airplanes

AGENCY: Federal Aviation Administration, DOT.

ACTION: Final rule; correction.

SUMMARY: This document corrects an error that appeared in airworthiness directive (AD) 2004-22-25, which was published in the Federal Register on November 9, 2004 (69 FR 64839). The error resulted in the incorrect reference to cable spacers. This AD is applicable to certain Boeing Model 767-200, -300, and -300F series airplanes. This AD requires a one-time inspection for discrepancies of all wire bundles, including certain power feeder cables, of the electrical system in the forward cargo compartment ceiling at certain stations; and corrective actions if necessary.

DATES: Effective December 14, 2004.

FOR FURTHER INFORMATION CONTACT: Elias Natsiopoulos, Aerospace Engineer, Systems and Equipment Branch, ANM-130S, FAA, Seattle Aircraft Certification Office, 1601 Lind Avenue, SW., Renton, Washington 98055-4056; telephone (425) 917-6478; fax (425) 917-6590.

SUPPLEMENTARY INFORMATION: Airworthiness Directive (AD) 2004-22-25, amendment 39-13853, applicable to certain Boeing Model 767-200, -300, and -300F series airplanes, was published in the Federal Register on November 9, 2004 (69 FR 64839). That AD requires a one-time inspection for discrepancies of all wire bundles, including certain power feeder cables, of the electrical system in the forward cargo compartment ceiling at certain stations; and corrective actions if necessary.

As published, the third cell of paragraph (a)(2)(ii) of Table 1 of AD 2004-22-25 states, “* * * install sleeving, lacing tape, cable spacers, and straps,” in accordance with Boeing Alert Service Bulletin 767-24A0128, Revision 3, dated June 24, 2004 (cited as the appropriate service information for accomplishing the required actions). We incorrectly specified “cable spacers” as part of the installation requirements if the clearance between the power feeder cables and cargo liner standoffs is less than 0.13 inch. The service bulletin does not describe procedures for installation of cable spacers in that area. Therefore, we have determined that “cable spacers” should be removed from the requirements of paragraph (a)(2)(ii) of Table 1 of that AD.

Since no other part of the regulatory information has been changed, the final rule is not being republished in the Federal Register.

The effective date of this AD remains December 14, 2004.

§ 39.13 [Corrected]

On page 64842, in Table 1, paragraph (a)(2)(ii) of AD 2004-22-25 is corrected to read as follows:

* * * * *

Table 1.—Clearance Between Wire Bundles and Cargo Liner Standoffs
If the clearance between the— | Is— | Then—
(i) Wire bundles and cargo liner standoffs | 0.25 inch or more | No further action is required by this AD.
| Between 0.13 and 0.25 inch | Install sleeving and lacing tape.
| Less than 0.13 inch | Install sleeving, lacing tape, cable spacers, and straps.
(ii) Power feeder cables and cargo liner standoffs | 0.13 inch or more | No further action is required by this AD.
| less than 0.13 inch | Install sleeving, lacing tape, and straps.

* * * * *

Issued in Renton, Washington, on December 22, 2004.
Kevin M. Mullin,
Acting Manager, Transport Airplane Directorate, Aircraft Certification Service.

[FR Doc. 04-28666 Filed 12-30-04; 8:45 am]

BILLING CODE 4910-13-P